DEPARTMENT OF COMMERCE

International Trade Administration

Submission for OMB Review: Comment Request

DOC has submitted to the Office of Management and Budget (OMB) for clearance the following proposal for collection of information under the provisions of the Paperwork Reduction Act of 1995, Public Law 104-13.

Participation Agreement and Trade Mission Application

Agency Form Number: ITA-4008P, ITA-4008P-1 and ITA-4008P-A.

OMB Number: 0625-0147.

Type of Request: Regular Submission.

Burden: 2,768 hours.

Number of Respondents: 7,500.

Avg. Hours Per Response: 20—90 minutes.

Needs and Uses: The ITA-4008P, “Participation Agreement”, is the vehicle by which individual firms agree to participate in any of ITA's trade promotion programs and record their required participation fee to the U.S. Department of Commerce (DOC). Together with the relevant ITA-4008P-A, “Conditions of Participation”, it forms a contract between the individual firm and the DOC. The ITA-4008P-1, “Trade Mission Application”, is used to solicit information from firms seeking to participate in DOC overseas trade missions covered by the Statement of Policy Governing Overseas Trade Missions of the Department of Commerce issued by Secretary Daley on March 3, 1997. Trade Mission participants are required to complete the Forms ITA-4008P, ITA-4008P-1, and ITA-4008P-A. Other DOC trade event (not trade mission) participants complete Forms ITA-4008P and ITA-4008P-A, but do not complete Form ITA-4008P-1.

Affected Public: The forms are sent by request to potential U.S. firms.

Frequency: Upon request by U.S. firms (On Occasion).

Respondents Obligation: Voluntary.

OMB Desk Officer: David Rostker, (202) 395-3897.

Copies of the above information collection can be obtained by calling or writing Diana Hynek, Department Paperwork Clearance Officer, (202) 482-0266, Department of Commerce, Room 6625, 14th and Constitution Avenue, NW., Washington, DC 20230. E-mail dHynek@doc.gov.

Written comments and recommendations for the proposed information collection should be sent to David Rostker, OMB Desk Officer, at David_Rostker@omb.eop.gov or fax (202) 395-7285 within 30 days of the publication of this notice in the Federal Register.

Dated: April 11, 2006.
Madeleine Clayton,
Management Analyst, Office of the Chief Information Officer.

[FR Doc. E6-5632 Filed 4-14-06; 8:45 am]

BILLING CODE 3510-FP-P